DEPARTMENT OF COMMERCE

International Trade Administration

Initiation of Antidumping and Countervailing Duty Administrative Reviews and Deferral of Administrative Reviews

AGENCY: Import Administration, International Trade Administration, Department of Commerce.

ACTION: Notice of Initiation of Antidumping and Countervailing Duty Administrative Reviews and Deferral of Administrative Reviews.

SUMMARY: The Department of Commerce (the Department) has received requests to conduct administrative reviews of various antidumping and countervailing duty orders and findings with October anniversary dates. In accordance with the Department's regulations, we are initiating those administrative reviews. The Department also received requests to defer the initiation of an administrative review for one antidumping duty order and one countervailing duty order.

EFFECTIVE DATE: December 1, 2005.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with October anniversary dates. The Department also received requests to defer for one year the initiation of the October 1, 2004 through September 30, 2005 administrative review of the antidumping duty order on Certain Hard Red Spring Wheat from Canada and the January 1, 2004 through December 31, 2004 administrative review of the countervailing duty order on Certain Hard Red Spring Wheat from Canada with respect to one exporter in accordance with 19 CFR 351.213(c). The Department received no objections to these requests from any party cited in 19 CFR 351.213(c)(l)(ii).

Initiation of Reviews

In accordance with section 19 CFR 351.221(c)(1)(i), we are initiating administrative reviews of the following antidumping and countervailing duty orders and findings. We intend to issue the final results of these reviews not later than October 31, 2006. Also, in accordance with 19 CFR 351.213(c), we are deferring for one year the initiation of the October 1, 2004 through September 30, 2005 administrative review of the antidumping duty order on Certain Hard Red Spring Wheat from Canada and the January 1, 2004 through December 31, 2004 administrative review of the countervailing duty order on Certain Hard Red Spring Wheat from Canada with respect to one exporter.

| Period to be reviewed
Antidumping Duty Proceedings
CANADA: Carbon and Certain Alloy Steel Wire Rod
A-122-840 | 10/1/04-9/30/05
Ivaco Rolling Mills L.P. (aka Ivaco Rolling Mills 2004 L.P.)
Sivaco Ontario Processing (aka Sivaco Ontario, a division of Sivaco Wire Group 2004 L.P.)
MEXICO: Carbon and Certain Alloy Steel Wire Rod
A-201-830 | 10/1/04-9/30/05
Hylsa Puebla, S.A. de C.V
THE PEOPLE'S REPUBLIC OF CHINA: Polyvinyl Alcohol¹
A-570-879 | 10/1/04-9/30/05
Sinopec Sichuan Vinylon Works
THE PEOPLE'S REPUBLIC OF CHINA: Polyethylene Retail Carrier Bags
A-570-886 | 1/26/04-7/31/05
Ampac Packaging (Nanjing) Co.²
TRINIDAD AND TOBAGO: Carbon and Certain Alloy Steel Wire Rod
A-274-804 | 10/1/04-9/30/05
Mittal Steel Point Lisas Limited
UKRAINE: Carbon and Certain Alloy Steel Wire Rod
A-823-812 | 10/1/04-9/30/05
JSC KRYVORIZHSTAL
Countervailing Duty Proceedings
IRAN: Certain In-Shell Roasted Pistachios
C-507-601 | 1/1/04-12/31/04
Tehran Nima Trading Company, Inc./dba Nima Trading Company
Suspension Agreements
None
Deferral of Initiation of Administrative Reviews
CANADA: Certain Hard Red Spring Wheat
A-122-847 | 10/1/04-09/30/05
Canadian Wheat Board
CANADA: Certain Hard Red Spring Wheat
C-122-848 | 1/1/04-12/31/04
Canadian Wheat Board
¹ If the above-named company does not qualify for a separate rate, all other exporters of polyvinyl alcohol from the People's Republic of China who have not qualified for a separate rate are deemed to be covered by this review as part of the single PRC entity of which the named exporter is a part.
² In the initiation notice that published on September 28, 2005 (70 FR 56631), the review period for Ampac was incorrect. The period listed above is the correct period of review for that firm. We also note that if the above-named company does not qualify for a separate rate, all other exporters of polyethylene retail carrier bags from the People's Republic of China who have not qualified for a separate rate are deemed to be covered by this review as part of the single PRC entity of which the named exporter is a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 18, 2005.
Holly A. Kuga,
Senior Office Director, AD/CVD Operations, Office 4 for Import Administration.

[FR Doc. E5-6710 Filed 11-30-05; 8:45 am]

Billing Code: 3510-DS-S